DEPARTMENT OF TRANSPORTATION

Federal Aviation Administration

[Docket No. FAA-2019-0196]

Agency Information Collection Activities: Requests for Comments; Clearance of Approval of New Information Collection: For the Information Collection Entitled, Website for Frequency Coordination Request (WebFCR), Pursuant to FAA Order 6050.32B

AGENCY: Federal Aviation Administration (FAA), DOT.

ACTION: Notice and request for comments.

SUMMARY: In accordance with the Paperwork Reduction Act of 1995, FAA invites public comments about our intention to request the Office of Management and Budget (OMB) approval to allow a new information collection. The Federal Register Notice with a 60-day comment period soliciting comments on the following collection of information was published on April 19, 2019. The FAA has developed and deployed an information system, The Web-based Frequency Coordination Request (WebFCR) system to collect certain broadcast frequency information originally collected on form 7460-1, under OMB control number 2120-0001. It was determined that several broadcast applications from proponents not associated with construction, alterations and/or obstructions were not being properly captured with the required frequency data impacting the initiation of aeronautical studies, hence this defined new collection.

DATES: Written comments should be submitted by July 26, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Victor Hinton by email at: Victor.Hinton@faa.gov; phone: (202) 267-7532.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Website for Frequency Coordination Request (WebFCR) webfcr.faa.gov.

Form Numbers: Prior associated with FAA Form 7460-1.

Type of Review: Request for a new information collection.

Background: The Federal Register Notice with a 60-day comment period soliciting comments on the following collection of information was published on April, 19 2019 (FR 16557). 49 U.S.C. Section 44718(c) under Broadcast Applications and Tower Studies states, “In carrying out laws related to a broadcast application—the Administrator of the Federal Aviation Administration and the Federal Communications Commission shall take action necessary to coordinate efficiently—(1) The receipt and consideration of, and action on, the application; and (2) The completion of any associated aeronautical study. The previous broadcast radio frequency data via OMB Control 2120-0001 only addressed non-Federal requests related to construction, alterations and obstructions, not capturing military, federal agency broadcast applications which require consideration, analysis or aeronautical studies pursuant to 49 U.S.C. Section 44718(c).

Respondents: Approximately 1,200 annually nationwide. The Respondents are engineers, analysts, consultants, stakeholders or federal agency managers, including military services, who have a need to transmit on a radio frequency which is within the National Telecommunications and Information Administration's (NTIA) Aviation Assignment Group (AAG) frequency band assigned to the FAA for civil aviation use. The response to this data collection is required for the proponent to obtain FAA concurrence to use a radio frequency that impacts civil aviation. The information collected through the WebFCR portal supports the engineering, modeling, validation and workflow management of the request to evaluate if the request interferes or impacts civil aviation operations pursuant to FAA Order 6050.32B.

Frequency: Information is collected on occasion.

Estimated Average Burden per Response: .2 hours.

Estimated Total Annual Burden: 240 hours.

Issued in Washington, DC, on June 20, 2019.
Victor Hinton,
Spectrum Engineer, Automation Lead, Spectrum Engineering and Policy, AJW-1C2.

[FR Doc. 2019-13525 Filed 6-25-19; 8:45 am]

BILLING CODE 4910-13-P